DEPARTMENT OF HOMELAND SECURITY

Federal Emergency Management Agency

44 CFR Part 65

[Docket No. FEMA-B-7444]

Changes in Flood Elevation Determinations

AGENCY: Federal Emergency Management Agency (FEMA), Emergency Preparedness and Response Directorate, Department of Homeland Security.

ACTION: Interim rule.

SUMMARY: This interim rule lists communities where modification of the Base (1 % annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Mitigation Division, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act

This rule is categorically excluded from the requirements of 44 CFR part 10, Environmental Consideration. No environmental impact assessment has been prepared.

Regulatory Flexibility Act

The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | City of Phoenix (03-09-0934P) | December 18, 2003; December 25, 2003; Arizona Business Gazette | The Honorable Skip Rimsza, Mayor, City of Phoenix, 200 West Washington Street, 11th Floor, Phoenix, Arizona 85003 | March 25, 2004 | 040051
Arizona: Pima | Town of Marana (02-09-829P) | January 15, 2004; January 22, 2004; Daily Territorial | The Honorable Bobby Sutton, Jr., Mayor, Town of Marana, 13251 North Lon Adams Road, Marana, Arizona 85653 | March 18, 2004 | 040118
Arizona: Pima | City of Tucson (02-09-829P) | January 15, 2004; January 22, 2004; Daily Territorial | The Honorable Bob Walkup, Mayor, City of Tucson, City Hall, 255 West Alameda Street, Tucson, Arizona 85701 | March 18, 2004 | 040076
Arizona: Pima | Unincorporated Areas (02-09-829P) | January 15, 2004; January 22, 2004; Daily Territorial | The Honorable Sharon Bronson, Chair, Pima County Board of Supervisors, 130 West Congress Street, 11th Floor, Tucson, Arizona 85701 | March 18, 2004 | 040073
Arizona: Yuma | Unincorporated Areas (02-09-045P) | December 16, 2003; December 23, 2003; Yuma Daily Sun | The Honorable Lenore Lorona Stuart, Chairperson, Yuma County Board of Supervisors, 198 South Main Street, Yuma, Arizona 85364 | March 24, 2004 | 040099
California: Amador | City of Sutter Creek (03-09-0678P) | October 8, 2003; October 15, 2003; Ledger Dispatch | The Honorable W. Brent Parsons, Mayor, City of Sutter Creek, P.O. Box 1238, Sutter Creek, California 95685 | September 19, 2003 | 060458
California: Contra Costa | Unincorporated Areas (03-09-1147P) | November 6, 2003; November 13, 2003; Contra Costa Times | The Honorable Mark DeSaulnier, Chairman, Contra Costa County Board of Supervisors, 2425 Bisso Lane Suite 110, Concord, California 94520 | October 29, 2003 | 060025
California: Mono | Unincorporated Areas (02-09-0445P) | January 22, 2004; January 29, 2004; Mammoth Times | The Honorable Mary Pipersky, Chairperson, Mono County Board of Supervisors, P.O. Box 8474, Mammoth Lakes, California 93546 | April 28, 2004 | 060194
California: Riverside | City of Murrieta (03-09-1620P) | January 22, 2004; January 29, 2004; The Californian | The Honorable Jack Van Haaster, Mayor, City of Murrieta, 26442 Beckman Court, Murrieta, California 92562 | April 15, 2004 | 060751
California: Riverside | City of Temecula (03-09-0162P) | October 29, 2003; November 5, 2003; The Press Enterprise | The Honorable Jeff Stone, Mayor, City of Temecula, P.O. Box 9033, Temecula, California 92589-9033 | February 4, 2004 | 060742
California: San Diego | City of Oceanside (02-09-1057P) | January 8, 2004; January 15, 2004; North County Times | The Honorable Terry Johnson, Mayor, City of Oceanside, 300 North Coast Highway Oceanside, California 92054 | November 21, 2003 | 060294
California: San Diego | Unincorporated Areas (03-09-0999P) | November 13, 2003; November 20, 2003; The San Diego Union Tribune | The Honorable Greg Cox, Chairman, San Diego County Board of Supervisors, 1600 Pacific Highway, Room 335, San Diego, California 92101 | February 19, 2003 | 060284
California: Ventura | City of Simi Valley (03-09-1657P) | December 11, 2003; December 18, 2003; Ventura County Star | The Honorable William Davis, Mayor, City of Simi Valley, 2929 Tapo Canyon Road Simi Valley, California 93063-2199 | November 18, 2003 | 060421
California: Ventura | City of Simi Valley (03-09-1631P) | January 1, 2004; January 8, 2004; Ventura County Star | The Honorable William Davis, Mayor City of Simi Valley, 2929 Tapo Canyon Road, Simi Valley, California 93063-2199 | April 9, 2004 | 060421
Colorado: Boulder | City of Boulder (03-08-0410P) | January 8, 2004; January 15, 2004; Boulder Daily Camera | The Honorable William R. Toor, Mayor, City of Boulder, 1777 Broadway, Boulder, Colorado 80306 | April 15, 2004 | 080024
Colorado: El Paso | Town of Monument (03-08-0661P) | January 7, 2004; January 14, 2004; Tri-Lakes Tribune | The Honorable E. L. Konarski, Mayor, Town of Monument, P.O. Box 325, Monument, Colorado 80132 | April 13, 2004 | 080064
Colorado: El Paso | Unincorporated Areas (03-08-0619P) | December 17, 2003; December 24, 2003; El Paso County News | The Honorable Chuck Brown, Chairman, El Paso County Board of Commissioners, 27 East Vermijo Avenue, Colorado Springs, Colorado 80903-2208 | March 24, 2004 | 080059
Colorado: Gilpin | City of Black Hawk (02-08-526P) | October 10, 2003; October 17, 2003; Weekly Register Call | The Honorable Kathryn Eccker, Mayor, City of Black Hawk, P.O. Box 17, Black Hawk, Colorado 80422 | September 15, 2003 | 080076
Colorado: Jefferson | City of Lakewood (03-08-0596P) | December 4, 2003; December 11, 2003; The Lakewood Sentinel | The Honorable Steve Burkholder, Mayor, City of Lakewood, Lakewood Civic Center South, 480 South Allison Parkway, Lakewood, Colorado 80226 | March 11, 2004 | 085075
Colorado: Jefferson | City of Westminster (03-08-0023P) | January 8, 2004; January 15, 2004; Westminster Window | The Honorable Ed Moss, Mayor, City of Westminster, 4800 West 92nd Avenue, Westminster, CO 80031 | April 14, 2004 | 080008
Colorado: Larimer | City of Fort Collins (03-08-0612P) | December 11, 2003; December 18, 2003; Fort Collins Coloradoan | The Honorable Ray Martinez, Mayor, City of Fort Collins, P.O. Box 580, Fort Collins, Colorado 80525 | December 17, 2003 | 080102
Colorado: Routt | City of Steamboat Springs (03-08-0036P) | January 4, 2004; January 11, 2004; Steamboat Pilot | The Honorable Kathy Connell, City Council President, City of Steamboat Springs, P.O. Box 775088, Steamboat Springs, Colorado 80477 | April 12, 2004 | 080159
North Carolina: Guilford | City of Greensboro (03-04-063P) | December 17, 2003; December 24, 2003; News & Record | The Honorable Keith Holliday, Mayor, City of Greensboro, P.O. Box 3136, Greensboro, North Carolina 27402 | March 24, 2004 | 375351
Nevada: Clark | City of Henderson (03-09-0270P) | December 4, 2003; December 11, 2003; Las Vegas Review Journal | The Honorable James B. Gibson, Mayor, City of Henderson, 240 South Water Street, Henderson, Nevada 89015 | November 6, 2003 | 320005
Texas: Dallas | City of Sachse (03-06-2321P) | January 15, 2004; January 22, 2004; Dallas Morning News | The Honorable Hugh Cairns, Mayor, City of Sachse, 7310 Vista Valley Lane, Sachse, Texas 75048 | April 14, 2004 | 480186
Utah: Iron | City of Cedar City (03-08-0370P) | November 13, 2003; November 20, 2003; The Spectrum | The Honorable Gerald R. Sherratt, Mayor, City of Cedar City, P.O. Box 249, Cedar City, Utah 84720 | February 19, 2004 | 490074
Washington: King | City of Bothell (03-10-0047P) | October 16, 2003; October 23, 2003; Seattle Times | The Honorable Jeff Merrill, Mayor, City of Bothell, 18305 101st Avenue Northeast, Bothell, Washington 98011 | January 22, 2004 | 530075
Washington: King | City of Issaquah (03-10-0308P) | October 15, 2003; October 22, 2003; Issaquah Press | The Honorable Ava Frisinger, Mayor, City of Issaquah, P.O. Box 1307, Issaquah, Washington 98027-1307 | January 22, 2004 | 530079
Washington: Spokane | City of Spokane (02-10-545P) | January 8, 2004; January 15, 2004; Spokesman Review | The Honorable John Powers, Mayor, City of Spokane, Spokane City Hall, 808 West Spokane Falls Boulevard, Spokane, Washington 99201-3355 | April 14, 2004 | 530183
Wyoming: Teton | Teton County (03-08-0507P) | December 3, 2003; December 10, 2003; Jackson Hole News | The Honorable Bill Paddleford, Chair, Teton County Board of Commissioners, P.O. Box 3594, Jackson, Wyoming 83001 | November 19, 2003 | 560094

(Catalog of Federal Domestic Assistance No. 83.100, “Flood Insurance.”)
Dated: March 3, 2004.
Anthony S. Lowe,
Mitigation Division Director, Emergency Preparedness and Response Directorate.

[FR Doc. 04-5747 Filed 3-12-04; 8:45 am]

BILLING CODE 9110-11-P